DEPARTMENT OF THE INTERIOR

Fish and Wildlife Service

Aquatic Nuisance Species Task Force Mississippi River Basin Regional Panel Meeting

AGENCY: Fish and Wildlife Service, Interior.

ACTION: Notice of meeting.

SUMMARY: This notice announces a meeting of the Aquatic Nuisance Species (ANS) Task Force Mississippi River Basin Regional Panel. The meeting topics are identified in the SUPPLEMENTARY INFORMATION section.

DATES: The Mississippi River Basin Regional Panel will meet from 8 a.m. to 12 p.m. on Tuesday, May 25, 2004 with an optional afternoon field trip and 8 to 12 on Wednesday, May 26, 2004. Minutes of the meeting will be available for public inspection during regular business hours, Monday through Friday.

ADDRESSES: The Mississippi River Basin Regional Panel meeting will be held at the Holiday Inn Select, 2200 I-70 Drive, SW., Columbia, Missouri, 65203. Phone (573) 445-8531. Minutes of the meeting will be maintained in the office of Chief, Division of Environmental Quality, U.S. Fish and Wildlife Service, Suite 322, 4401 North Fairfax Drive, Arlington, Virginia 22203-1622.

FOR FURTHER INFORMATION CONTACT: Jerry Rasmussen, Panel Coordinator, Mississippi Interstate Cooperative Resources Association (MICRA) at (309) 793-5811 or Everett Wilson, Aquatic Nuisance Species Task Force, at 703-358-2148.

SUPPLEMENTARY INFORMATION: Pursuant to section 10(a)(2) of the Federal Advisory Committee Act (5 U.S.C. App. I), this notice announces meetings of the Aquatic Nuisance Species Task Force Mississippi River Basin Regional Panel. The Task Force was established by the Nonindigenous Aquatic Nuisance Prevention and Control Act of 1990. The Mississippi River Basin Regional Panel was established by the ANS Task Force in 2003. The Mississippi River Basin Regional Panel, comprised of representatives from Federal, State, local agencies and from private environmental and commercial interests, performs the following activities:

a. Identifies priorities for activities in the Mississippi River Basin,

b. Develops and submits recommendations to the national Aquatic Nuisance Species Task Force,

c. Coordinates aquatic nuisance species program activities in the Mississippi River Basin,

d. Advises public and private interests on control efforts, and

e. Submits an annual report to the Aquatic Nuisance Species Task Force.

The purpose of the Panel is to advise and make recommendations to the Aquatic Nuisance Species Task Force on issues relating to the Mississippi River Basin of the United States. The Mississippi River Basin Regional Panel on Aquatic Nuisance Species will discuss several topics at this meeting including: Prevention and Control Committee, Research and Risk Assessment Committee, and Education and Communication Committee priorities and activity planning; technical presentations; recommendations for the ANS Task Force; and updates from Panel member organizations and states. The meeting includes an optional field trip on Tuesday afternoon.

Dated: April 12, 2004.
Everett Wilson,
Acting Co-Chair, Aquatic Nuisance Species Task Force, Assistant Director—Fisheries & Habitat Conservation.

[FR Doc. 04-9146 Filed 4-21-04; 8:45 am]

BILLING CODE 4310-55-P